FEDERAL COMMUNICATIONS COMMISSION

Advisory Committee on Diversity for Communications in the Digital Age; Notice of Public Meeting

AGENCY: Federal Communications Commission.

ACTION: Notice of public meeting.

SUMMARY: In accordance with the Federal Advisory Committee Act, Public Law 92-463, as amended, this notice advises interested persons that the Advisory Committee on Diversity for Communications in the Digital Age is holding its fourth meeting, which will be held by teleconference. The meeting is scheduled, on an expedited basis, for October 4, 2004. Under 41 CFR 102-3.150, the Commission is holding this meeting with less than 15 calendar days notice due to exceptional circumstances, specifically to address time-sensitive resolutions. Because of these special circumstances, the Committee took the step, even prior to the date of this Notice, of placing copies of the proposed resolutions on the FAC Web site and inviting Committee members by e-mail to submit comments for the public record. Any comments that are submitted will be made available on the Web site, which is accessible to the public.

The Committee also notes that, effective September 27, 2004, Linda Blair will serve as the Designated Federal Officer.

DATES: October 4, 2004, 3 p.m., to 4 p.m.

FOR FURTHER INFORMATION CONTACT: Linda Blair, Designated Federal Officer of the Committee on Diversity, or Maureen C. McLaughlin, Alternate Designated Federal Officer of the Committee on Diversity, 202-418-2030, e-mail Linda.Blair@fcc.gov, Maureen.Mclaughlin@fcc.gov. Press Contact, Audrey Spivak, Office of Public Affairs, 202-418-0512, aspivak@fcc.gov.

SUPPLEMENTARY INFORMATION: The Diversity Committee was established by the Federal Communications Commission to examine current opportunities and develop recommendations for policies and practices that will further enhance the ability of minorities and women to participate in telecommunications and related industries. The Diversity Committee will prepare periodic and final reports to aid the FCC in its oversight responsibilities and its regulatory reviews in this area. In conjunction with such reports and analyses, the Diversity Committee will make recommendations to the FCC concerning the need for any guidelines, incentives, regulations or other policy approaches to promote diversity of participation in the communications sector. The Diversity Committee will also develop a description of best practices within the communications sector for promoting diversity of participation.

Agenda

The purpose of the meeting is to discuss two proposals: (1) A resolution urging the FCC to enforce its existing Designated Entity rules, including the rules setting aside certain C-Block broadband PCS spectrum for bidding only by “entrepreneurial” companies (i.e., small, minority or women-owned companies whose gross revenues and total assets are less than $125 million and $500 million, respectively); and (2) a resolution urging the FCC to adopt an NPRM seeking comment on ways to foster ownership diversity in the commercial FM radio band (92.1-107.9 mHz). More details on these resolutions are available on the Advisory Committee's Web site at http://www.fcc.gov/DiversityFAC. Members of the Advisory Committee and the public may submit written comments at any time by following the instructions on the Web site.

Public Participation

Interested persons may contact Kevin Venters, (202) 418-2030, to obtain a number to call to participate in the teleconference, or may join the teleconference at the Federal Communications Commission, Commission Meeting Room, Room TW-A402 and TW-A442, 445 12th St., SW., Washington, DC 20554. The Federal Communications Commission will attempt to accommodate as many people as possible. However, admittance will be limited to the seating available. A live RealAudio feed will be available over the Internet; information on how to tune in can be found at the Commission's Web site, http://www.fcc.gov.

Federal Communications Commission.
Jane E. Mago,
Designated Federal Officer.

[FR Doc. 04-21505 Filed 9-23-04; 8:45 am]

BILLING CODE 6712-01-P